DEPARTMENT OF LABOR

Office of the Secretary

Submission for OMB Review; Comment Request

May 27, 2003.

The Department of Labor (DOL) has submitted the following public information collection request (ICR) to the Office of Management and Budget (OMB) for review and approval in accordance with the Paperwork Reduction Act of 1995 (Pub. L. 104-13, 44 U.S.C. chapter 35). A copy this ICR, with applicable supporting documentation, may be obtained by calling the Department of Labor. To obtain documentation, contact Darrin King on 202-693-4129 (this is not a toll-free number) or E-Mail: king.darrin@dol.gov.

Comments should be sent to Office of Information and Regulatory Affairs, Attn: OMB Desk Officer for the Occupational Safety and Health Administration, Office of Management and Budget, Room 10235, Washington, DC 20503 (202-395-7316 / this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Benzene.

OMB Number: 1218-0129.

Frequency: On occasion.

Type of Response: Recordkeeping and third party disclosure.

Affected Public: Business or other for-profit; Federal government; and State, local or tribal government.

Number of Respondents: 13,498.

Information collection requirement | Annual responses | Average response time (hours) | Annual burden hours
Exposure Monitoring:
Initial, Periodic, and Additional Monitoring | 0 | 0.00 | 0
Initial Exposure-Monitoring Results | 0 | 0.00 | 0
Periodic Exposure-Monitoring Results | 20,247 | 0.08 | 1,620
Additional Exposure-Monitoring Results | 1,350 | 0.08 | 108
Written Compliance Plan | 6,749 | 0.50 | 3,375
Respiratory Protection (Fit Testing) | 0 | 0.00 | 0
Medical Surveillance:
Medical Examinations:
Initial Medical Examinations | 10,800 | 2.00 | 21,600
Periodic Examinations | 41,647 | 2.00 | 83,294
Additional Examinations and Referrals | 109 | 4.00 | 436
Information Provided to Physician | 52,556 | 0.08 | 4,204
Provide Physician's Written Opinion to employee | 52,556 | 0.08 | 4,204
Communication of Benzene Hazards:
Signs and Labels | 0 | 0.00 | 0
Material Safety Data Sheets | 0 | 0.00 | 0
Employee Information and Training | 0 | 0.00 | 0
Record keeping:
Exposure Monitoring Results:
Periodic Monitoring Records | 20,247 | 0.08 | 1,620
Additional Monitoring Records | 1,350 | 0.08 | 108
Medical Records | 52,556 | 0.08 | 4,204
Records Availability | 5,256 | 0.08 | 420
Federal Access | 4 | 0.08 | 1
Records Transfer | 3 | 1.00 | 3
Totals | 265,428 |  | 125,197

Total Annualized capital/startup: $0.

Total annual costs (operating/maintaining systems or purchasing services): $8,179,958.

Description: OSHA is proposing to extend the information-collection requirements specified in the Benzene Standard (29 CFR 1910.1028). The information-collection requirements specified in the Benzene Standard protect employees from the adverse health effects that may result from occupational exposure to benzene. The major information-collection requirements in the Standard include conducting employee exposure monitoring, notifying employees of their benzene exposures, implementing a written compliance program, implementing medical surveillance of employees, providing examining physicians with specific information, ensuring that employees receive a copy of their medical-surveillance results, maintaining employees' exposure-monitoring and medical-surveillance records for specific periods, and providing access to these records by OSHA, the National Institute for Occupational Safety and Health, the employee who is the subject of the records, the employee's representative, and other designated parties.

Ira L. Mills,
Departmental Clearance Officer.

[FR Doc. 03-13801 Filed 6-2-03; 8:45 am]

BILLING CODE 4510-26-P